DEPARTMENT OF LABOR

Employment and Training Administration

[TA-W-62,878]

Murata Power Solutions, Formerly Known as C&D Technologies, Inc., Including On-Site Leased Workers From Adecco, Volt, Employment Hotline, Supplemental Solutions and Employment Strategies, Tucson, AZ; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on March 5, 2008, applicable to workers of Murata Power Solutions, formerly known as C&D Technologies, Inc., including on-site leased workers from Adecco, Volt, Employment Hotline, and Supplemental Solutions, Tucson, Arizona. The notice will be published soon in the Federal Register.

At the request of the State agency, the Department reviewed the certification for workers of the subject firm. The workers are engaged in the production of printed circuit boards.

New information shows that leased workers of Employment Strategies were employed on-site at the Tucson, Arizona location of Murata Power Solutions, formerly known as C&D Technologies, Inc. The Department has determined that these workers were sufficiently under the control of the subject firm to be considered leased workers.

Based on these findings, the Department is amending this certification to include leased workers of Employment Strategies working on-site at the Tucson, Arizona location of the subject firm.

The intent of the Department's certification is to include all workers employed at Murata Power Solutions, formerly known as C&D Technologies, Inc., Tucson, Arizona who were adversely affected by a shift in production of printed circuit boards to Mexico and China.

The amended notice applicable to TA-W-62,878 is hereby issued as follows:

All workers of Murata Power Solutions, formerly known as C&D Technologies, Inc. including on-site workers from Adecco, Volt, Employment Hotline, Supplemental Solutions and Employment Strategies, Tucson, Arizona, who became totally or partially separated from employment on or after February 19, 2007, through March 5, 2010, are eligible to apply for adjustment assistance under section 223 of the Trade Act of 1974, and are also eligible to apply for alternative trade adjustment assistance under section 246 of the Trade Act of 1974.

Signed at Washington, DC, this 20th day of March 2008.
Elliott S. Kushner,
Certifying Officer, Division of Trade Adjustment Assistance.

[FR Doc. E8-6118 Filed 3-25-08; 8:45 am]

BILLING CODE 4510-FN-P